DEPARTMENT OF EDUCATION

Equity and Excellence Commission

AGENCY: U.S. Department of Education, Office for Civil Rights.

ACTION: Notice of an open meeting.

SUMMARY: This notice sets forth the schedule and proposed agenda of an up-coming meeting of the Equity and Excellence Commission (Commission). The notice also describes the functions of the Commission. Notice of this meeting is required by section 10(a)(2) of the Federal Advisory Committee Act (FACA) and is intended to notify the public of their opportunity to attend.

Date: November 27 and 28, 2012.

Time: 9:00 a.m. to 4:00 p.m. Eastern Standard Time.

ADDRESSES: The Commission will meet in Washington, DC at the National Museum of the American Indian at Fourth Street & Independence Ave. SW., Washington, DC 20560. The Commission will meet in the Patron's Lounge of the museum on November 27 and in the museum's fourth-floor conference room on November 28.

FOR FURTHER INFORMATION CONTACT: Guy Johnson, Designated Federal Official, Equity and Excellence Commission, U.S. Department of Education, 400 Maryland Avenue SW., Washington, DC 20202. Email: equitycommission@ed.gov. Telephone: (202) 453-6567.

SUPPLEMENTARY INFORMATION: On November 27, 2012 from 9:00 a.m. to 4:00 p.m. Eastern Standard Time, and on November 28, 2012, from 9:00 a.m. to 4:00 p.m. Eastern Standard Time, the Equity and Excellence Commission will hold an open meeting in Washington, DC at the National Museum of the American Indian at Fourth Street & Independence Ave. SW., Washington, DC 20560. The Commission will meet in the Patron's Lounge of the museum on November 27 and in the museum's fourth-floor conference room on November 28.

The purpose of the Commission is to collect information, analyze issues, and obtain broad public input regarding how the Federal government can increase educational opportunity by improving school funding equity. The Commission will also make recommendations for restructuring school finance systems to achieve equity in the distribution of educational resources and further student performance, especially for the students at the lower end of the achievement gap. The Commission will examine the disparities in meaningful educational opportunities that give rise to the achievement gap, with a focus on systems of finance, and recommend appropriate ways in which Federal policies could address such disparities.

The agenda for the Commission's November 27-28, 2012 meeting will include final review and deliberation of the drafts prepared by the writing teams for consideration in the draft report to the Secretary of the U.S. Department of Education (Secretary), summarizing the Commission's findings and recommendations for appropriate ways in which Federal policies can improve equity in school finance. The Commission will also discuss the form and substance of the report. Due to time constraints, there will not be a public comment period. However, individuals wishing to provide written comments may send their comments to the Commission via email at equitycommission@ed.gov or via U.S. mail to Guy Johnson, Designated Federal Official, Equity and Excellence Commission, U.S. Department of Education, 400 Maryland Avenue SW., Washington, DC 20202. For comments related to the upcoming meeting, please submit comments for receipt no later than November 21, 2012.

Individuals interested in attending the meeting must register in advance, as meeting room seating may be limited. Please contact Guy Johnson at (202) 453-6567 or by email at equitycommission@ed.gov. Individuals who will need accommodations for a disability in order to attend the meeting (e.g., interpreting services, assistive listening devices, or materials in alternative format) should notify Guy Johnson at (202) 453-6567 no later than November 21, 2012. We will attempt to meet requests for accommodations after this date but cannot guarantee availability. The meeting site is accessible to individuals with disabilities.

Records are kept of all Commission proceedings and are available for public inspection at the Department of Education, 400 Maryland Avenue SW., Washington, DC 20202 between the hours of 9 a.m. to 5 p.m. Eastern Standard Time. You may contact Guy Johnson, Designated Federal Official, Equity and Excellence Commission, at equitycommission@ed.gov, or at (202) 453-6567 if you have additional questions regarding inspection of records.

Seth Galanter,
Deputy Assistant Secretary for Policy, Office for Civil Rights, United States Department of Education.

[FR Doc. 2012-27538 Filed 11-9-12; 8:45 am]

BILLING CODE 4000-01-P